DEPARTMENT OF ENERGY

Federal Energy Regulatory Commission

[Docket No. CP06-66-002]

Port Barre Investments, LLC. (d/b/a Bobcat Gas Storage); Notice of Amendment Application

September 27, 2007.

On September 25, 2007, in Docket No. CP06-66-002, Port Barre Investments, LLC. (d/b/a Bobcat Gas Storage (Bobcat)), pursuant to section 7(c) of the Natural Gas, Act, as amended, and section 157 Subparts A of the Federal Energy Regulatory Commission's (Commission) regulations, filed to amend its certificate issued on April 19, 2007 in Docket No. CP06-66-001, 119 FERC ¶61,057. The requested amendment would increase the working gas capacity of each of two authorized storage caverns from 6.75 billion cubic feet (Bcf) to 7.8 Bcf, increasing the total project working gas capacity to 15.6 Bcf. Bobcat seeks no change to its authorized maximum daily deliverability or daily injection rate. Further, Bobcat asks that the Commission issue requested authorizations on an expedited basis by March 31, 2008.

Questions concerning the application should be directed to Paul W. Bieniawski (pbieniawski@bobcatstorage.com) or Thomas R. Dill (tdill@bobcatstorage.com) at Bobcat Gas Storage, 1500 City West Boulevard, Suite 560, Houston, Texas 77042, or by calling (713) 800-3535, Facsimile: (713) 800-3540 or Lisa M. Tonery (ltonery@kslaw.com) or Tania S. Perez (tperez@kslaw.com) at King & Spalding LLP, 1185 Avenue of the Americas, New York, NY 10036 or by calling 212-556-2307, Facsimile: (212) 556-2222.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a) (1) (iii) and the instructions on the Commission's Web site under the “e-Filing” link at http://www.ferc.gov. The Commission strongly encourages intervenors to file electronically.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail: FERCOnlineSupport@ferc.gov, or call (866) 208-3676 (toll free). For TTY, call (202) 502-8659.

Comment Date: 5 p.m. Eastern Time on October 27, 2007.

Kimberly D. Bose,
Secretary.

[FR Doc. E7-19592 Filed 10-3-07; 8:45 am]

BILLING CODE 6717-01-P